DEPARTMENT OF TRANSPORTATION

Federal Aviation Administration

14 CFR Part 71

[Docket No. FAA-2012-1047; Airspace Docket No. 12-AEA-11]

RIN 2120-AA66

Amendment of Area Navigation Routes Q-42 and Q-480; PA

AGENCY: Federal Aviation Administration (FAA), DOT.

ACTION: Final rule; technical amendment.

SUMMARY: This action amends the legal descriptions of area navigation (RNAV) routes Q-42 and Q-480 by changing the name of one waypoint common to each route. To avoid confusion with a similar sounding waypoint this will enhance safety within the National Airspace System and does not change the alignment or operating requirements of the routes.

DATES: Effective Dates: 0901 UTC, January 10, 2013. The Director of the Federal Register approves this incorporation by reference action under 1 CFR part 51, subject to the annual revision of FAA Order 7400.9 and publication of conforming amendments.

FOR FURTHER INFORMATION CONTACT: Paul Gallant, Airspace Policy and ATC Procedures Group, Office of Airspace Services, Federal Aviation Administration, 800 Independence Avenue SW., Washington, DC 20591; telephone: (202) 267-8783.

SUPPLEMENTARY INFORMATION:

Background

RNAV routes Q-42 and Q-480 both include the waypoint “BTRIX” in their descriptions. Q-480 also includes a waypoint named “BEETS.” With the extensive use of the routes in recent months, air traffic control facilities have identified a problem whereby “BTRIX” is being confused with “BEETS.” To eliminate any chance of confusion and enhance safety, the FAA is changing the name “BTRIX” to “MIKYG” in the descriptions of Q-42 and Q-480. This action is a name change only. The geographic position of the waypoint is not changing and the current alignments of Q-42 and Q-480 are not affected.

In addition, the geographic coordinates for the “BEETS” waypoint, in the description of Q-480, are changed from “lat. 39°57′20″ N., long. 77°26′59″ W.,” to “lat. 39°57′21″ N., long. 77°27′00″ W.” This is a minor change by adding one second of latitude and one second of longitude due to more accurate plotting of the point. This change does not alter the alignment of Q-480.

The Rule

This action amends Title 14 Code of Federal Regulations (14 CFR) part 71 by changing the name of one waypoint in the descriptions of RNAV routes Q-42 and Q-480 from “BTRIX” to “MIKYG.” In addition, a minor increase of one second of latitude and one second of longitude is made to the coordinates of the BEETS waypoint in Q-480.

Since this action involves only editorial changes to the legal descriptions of RNAV routes and does not change the dimensions or operating requirements of the affected routes, notice and public procedures under 5 U.S.C. 553(b) are unnecessary.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it updates the legal descriptions of RNAV routes to avoid the use of similar sounding waypoint names.

United States Area Navigation Routes are published in paragraph 2006 of FAA Order 7400.9W, dated August 8, 2012, and effective September 15, 2012, which is incorporated by reference in 14 CFR 71.1. The RNAV routes listed in this document will be published subsequently in the Order.

Environmental Review

The FAA has determined that this action qualifies for categorical exclusion under the National Environmental Policy Act in accordance with FAA Order 1050.1E, Environmental Impacts: Policies and Procedures, paragraph 311a. This airspace action consists of editorial changes only and is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9W, Airspace Designations and Reporting Points, dated August 8, 2012, and effective September 15, 2012, is amended as follows:

Paragraph 2006 United States area navigation routes

* * * * *

Q42 Kirksville, MO (IRK) to ZIMMZ, NJ [Amended]
Kirksville, MO (IRK) | VORTAC | (Lat. 40°08′06″ N., long. 92°35′30″ W.)
STRUK, IL | WP | (Lat. 40°14′04″ N., long. 90°18′22″ W.)
Danville, IL (DNV) | VORTAC | (Lat. 40°17′38″ N., long. 87°33′26″ W.)
Muncie, IN (MIE) | VOR/DME | (Lat. 40°14′14″ N., long. 85°23′39″ W.)
HIDON, OH | WP | (Lat. 40°10′00″ N., long. 81°37′27″ W.)
BUBAA, OH | WP | (Lat. 40°10′27″ N., long. 80°58′17″ W.)
PSYKO, PA | WP | (Lat. 40°08′37″ N., long. 79°09′13″ W.)
BRNAN, PA | WP | (Lat. 40°08′07″ N., long. 77°50′07″ W.)
HOTEE, PA | WP | (Lat. 40°20′36″ N., long. 76°29′37″ W.)
MIKYG, PA | WP | (Lat. 40°36′06″ N., long. 75°49′11″ W.)
SPOTZ, PA | WP | (Lat. 40°45′55″ N., long. 75°22′59″ W.)
ZIMMZ, NJ | WP | (Lat. 40°48′11″ N., long. 75°07′25″ W.)
Q480 ZANDR, OH to Kennebunk, ME (ENE) [Amended]
ZANDR, OH | FIX | (Lat. 40°00′19″ N., long. 81°31′58″ W.)
Bellaire, OH (AIR) | VOR/DME | (Lat. 40°01′01″ N., long. 80°49′02″ W.)
LEJOY, PA | FIX | (Lat. 40°00′12″ N., long. 79°24′54″ W.)
VINSE, PA | FIX | (Lat. 39°58′16″ N., long. 77°57′21″ W.)
BEETS, PA | WP | (Lat. 39°57′21″ N., long. 77°27′00″ W.)
HOTEE, PA | WP | (Lat. 40°20′36″ N., long. 76°29′37″ W.)
MIKYG, PA | WP | (Lat. 40°36′06″ N., long. 75°49′11″ W.)
SPOTZ, PA | WP | (Lat. 40°45′55″ N., long. 75°22′59″ W.)
CANDR, NJ | WP | (Lat. 40°58′16″ N., long. 74°57′35″ W.)
JEFFF, NJ | WP | (Lat. 41°14′46″ N., long. 74°27′43″ W.)
Kingston, NY (IGN) | VOR/DME | (Lat. 41°39′56″ N., long. 73°49′20″ W.)
LESWL, CT | WP | (Lat. 41°53′31″ N., long. 73°19′20″ W.)
Barnes, MA (BAF) | VORTAC | (Lat. 42°09′43″ N., long. 72°42′58″ W.)
Kennebunk, ME (ENE) | VORTAC | (Lat. 43°25′32″ N., long. 70°36′49″ W.)

Issued in Washington, DC, on October 16, 2012.
Gary A. Norek,
Manager, Airspace Policy and ATC Procedures Group.

[FR Doc. 2012-26331 Filed 10-25-12; 8:45 am]

BILLING CODE 4910-13-P